DEPARTMENT OF COMMERCE

International Trade Administration

[A-602-807]

Certain Uncoated Paper From Australia: Negative Preliminary Determination of Circumvention of the Antidumping Duty Order for Uncoated Paper Rolls

AGENCY: Enforcement and Compliance, International Trade Administration, Department of Commerce.

SUMMARY: The Department of Commerce (Commerce) preliminarily determines that imports of certain uncoated paper rolls from Australia were not completed by conversion into sheets of paper in the United States and, therefore, such imports are not circumventing the antidumping duty (AD) order on certain uncoated paper products from Australia, within the meaning of section 781(a) of the Tariff Act of 1930, as amended (the Act). We invite interested parties to comment on this preliminary determination.

DATES: Applicable January 27, 2021.

FOR FURTHER INFORMATION CONTACT: Genevieve Coen, AD/CVD Operations, Office V, Enforcement and Compliance, International Trade Administration, U.S. Department of Commerce, 1401 Constitution Avenue NW, Washington, DC 20230; telephone: (202) 482-3251.

SUPPLEMENTARY INFORMATION:

Background

On October 10, 2019, Commerce initiated an anti-circumvention inquiry to determine whether imports of certain uncoated paper rolls that are further processed into uncoated paper sheets in the United States ¹ are circumventing the Order on certain uncoated paper from Australia.² Commerce issued a questionnaire soliciting data on the quantity and value (Q&V) of exports of uncoated paper rolls to Australian Paper Pty. Ltd. (Australian Paper) and received a timely response, in which Australian Paper notified Commerce that it had no shipments of inquiry merchandise during the period under consideration. Thereafter, Commerce selected Australian Paper as the sole mandatory respondent in this inquiry in order to examine its no shipment claim, and we issued an initial questionnaire and two supplemental questionnaires to this company. Australian Paper submitted timely responses to these questionnaires. For a complete description of the events that followed the initiation of this inquiry, see the Preliminary Decision Memorandum.³

¹ See Certain Uncoated Paper Products from Australia, Brazil, the People's Republic of China, and Indonesia: Initiation of Anti-Circumvention Inquiry on the Antidumping and Countervailing Duty Orders, 84 FR 55915 (October 18, 2019).

² See Certain Uncoated Paper from Australia, Brazil, Indonesia, the People's Republic of China, and Portugal: Amended Final Affirmative Antidumping Determinations for Brazil and Indonesia and Antidumping Duty Orders, 81 FR 11174 (March 3, 2016) (Order).

³ See Memorandum, “Preliminary Decision Memorandum for the Anti-Circumvention Inquiry on the Antidumping Duty Order on Certain Uncoated Paper from Australia: Uncoated Paper Rolls,” dated concurrently with, and hereby adopted by, this notice (Preliminary Decision Memorandum).

Scope of the Order

The merchandise subject to this Order includes uncoated paper in sheet form; weighing at least 40 grams per square meter but not more than 150 grams per square meter; that either is a white paper with a GE brightness level ⁴ of 85 or higher or is a colored paper; whether or not surface-decorated, printed (except as described below), embossed, perforated, or punched; irrespective of the smoothness of the surface; and irrespective of dimensions (Certain Uncoated Paper). For a full description of the scope, see the Preliminary Decision Memorandum.

⁴ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Merchandise Subject to the Anti-Circumvention Inquiry

This anti-circumvention inquiry covers certain uncoated paper rolls that are commonly, but not exclusively, known as “sheeter rolls,” from Australia that are further processed in the United States into individual sheets of uncoated paper that would otherwise be subject to the Order (i.e., paper that weighs at least 40 grams per square meter but not more than 150 grams per square meter; and that either is a white paper with a GE brightness level of 83 +/−1% or higher or is a colored paper (as defined the “Scope” section of the Preliminary Decision Memorandum)), except as noted below. The uncoated paper rolls covered by this inquiry are able to be converted into sheets of uncoated paper using specialized cutting machinery prior to printing, and are typically, but not exclusively, between 52 and 103 inches wide and 50 inches in diameter. For clarity, we herein refer to “subject-paper rolls” when referencing the certain uncoated paper rolls that may be converted into subject merchandise. Subject-paper rolls are classified under Harmonized Tariff Schedule (HTS) code 4802.55.

Methodology

Commerce has made this preliminary negative circumvention determination in accordance with section 781(a) of the Act and 19 CFR 351.225(g). For a full description of the methodology underlying Commerce's preliminary determination, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and electronic versions of the Preliminary Decision Memorandum are identical in content. A list of the topics discussed in the Preliminary Decision Memorandum is attached at the Appendix to this notice.

Preliminary Negative Determination of Circumvention

As detailed in the Preliminary Decision Memorandum, we preliminarily determine there is no record evidence indicating that Australian subject-paper rolls are being completed by conversion into sheets of uncoated paper that would otherwise be subject to the Order in the United States. We, therefore, preliminarily determine that exports to the United States of subject-paper rolls from Australia are not circumventing the Order.

Public Comment

Case briefs or other written comments may be submitted to the Assistant Secretary for Enforcement and Compliance. Interested parties will be notified of the timeline for the submission of case briefs and written comments at a later date. Rebuttal briefs, limited to issues raised in case briefs, may be submitted no later than seven days after the deadline date for case briefs.⁵ Pursuant to 19 CFR 351.309(c)(2) and (d)(2), parties who submit case briefs or rebuttal briefs in this investigation are encouraged to submit with each argument: (1) A statement of the issue; (2) a brief summary of the argument; and (3) a table of authorities.

⁵ See 19 CFR 351.309; and 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date of the hearing.

Parties are reminded that briefs and hearing requests are to be filed electronically using ACCESS and that electronically filed documents must be received successfully in their entirety by 5 p.m. Eastern Time on the due date. Note that Commerce has temporarily modified certain of its requirements for serving documents containing business proprietary information until further notice.⁶

⁶ See Temporary Rule Modifying AD/CVD Service Requirements Due to COVID-19, 85 FR 17006 (March 26, 2020); and Temporary Rule Modifying AD/CVD Service Requirements Due to COVID-19; Extension of Effective Period, 85 FR 41363 (July 10, 2020).

Notification to Interested Parties

This notice is published in accordance with sections 781(a) and 777(i) of the Act and 19 CFR 351.225(g).

Dated: January 19, 2021.
Jeffrey I. Kessler,
Assistant Secretary for Enforcement and Compliance.

Appendix—List of Topics Discussed in the Preliminary Decision Memorandum

I. Summary

II. Background

III. Scope of the Order

IV. Merchandise Subject to the Anti-Circumvention Inquiry

V. Period of Anti-Circumvention Inquiry

VI. Statutory Framework

VII. Anti-Circumvention Analysis

VIII. Country-Wide Determination

IX. Recommendation

[FR Doc. 2021-01784 Filed 1-26-21; 8:45 am]

BILLING CODE 3510-DS-P